DEPARTMENT OF COMMERCE

Foreign-Trade Zones Board

[Order No. 1112]

Expansion of Foreign-Trade Zone 21; Charleston, SC, Area

Pursuant to its authority under the Foreign-Trade Zones Act of June 18, 1934, as amended (19 U.S.C. 81a-81u), the Foreign-Trade Zones Board (the Board) adopts the following Order:

Whereas, the South Carolina State Ports Authority, grantee of Foreign-Trade Zone 21, submitted an application to the Board for authority to expand FTZ 21 to include a site at the former Charleston Naval Base and Shipyard Park located in North Charleston, South Carolina (Site 14), within the Charleston Customs port of entry (FTZ Docket 54-99; filed 10/28/99);

Whereas, notice inviting public comment was given in the Federal Register (64 FR 61820, 11/15/99) and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application to expand FTZ 21 is approved, subject to the Act and the Board's regulations, including Section 400.28, and further subject to the Board's standard 2,000-acre activation limit.

Signed at Washington, DC, this 25th day of July 2000.
Troy H. Cribb,
Acting Assistant Secretary of Commerce for Import Administration, Alternate Chairman, Foreign-Trade Zones Board.

Attest:
Dennis Puccinelli,
Executive Secretary.

[FR Doc. 00-19826 Filed 8-3-00; 8:45 am]

BILLING CODE 3510-DS-P